DEPARTMENT OF HOMELAND SECURITY

[Docket No. DHS-2012-0046]

Protected Critical Infrastructure Information (PCII) Office Self-Assessment Questionnaire

AGENCY: National Protection and Programs Directorate, DHS.

ACTION: 30-day notice and request for comments;

New Information Collection Request: 1670-NEW.

SUMMARY: The Department of Homeland Security (DHS), National Protection and Programs Directorate (NPPD), Office of Infrastructure Protection (IP), Infrastructure Information Collection Division (IICD), Protected Critical Infrastructure Information (PCII) Program will submit the following Information Collection Request (ICR) to the Office of Management and Budget (OMB) for review and clearance in accordance with the Paperwork Reduction Act of 1995 (Pub. L. 104-13, 44 U.S.C. Chapter 35). NPPD is soliciting comments concerning New Information Collection Request, PCII Officer Questionnaire. DHS previously published this ICR in the Federal Register on November 26, 2012, for a 60-day public comment period. DHS received no comments. The purpose of this notice is to allow an additional 30 days for public comments.

DATES: Comments are encouraged and will be accepted until 30 days after date of publication in the Federal Register. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2012-0046 and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Barbara Forrest DHS/NPPD/IP/PCII, barbara.forrest@hq.dhs.gov.

SUPPLEMENTARY INFORMATION: The PCII Program was created by Congress under the Critical Infrastructure Information Act of 2002, (Sections 211-215, Title II, Subtitle B of the Homeland Security Act of 2002, Pub. L. 107-296) (CII Act) to encourage voluntary information sharing by owners and operators of critical infrastructure and protected systems. The PCII Program is implemented by 6 CFR Part 29, Procedures for Handling Critical Infrastructure Information; Final Rule (the Regulation), which was issued in 2006. PCII refers to validated and marked critical infrastructure information not customarily in the public domain and related to the security of critical infrastructure or protected systems, which is voluntarily submitted to DHS for homeland security purposes. The PCII Program offers several protections for information validated as PCII. The PCII Program is administered by DHS/NPPD/IP/IICD. The PCII Program is responsible for ensuring compliance with the Regulation's uniform procedures for the handling, use, dissemination, and safeguarding of PCII. In this capacity, the PCII Program oversees a community of stakeholders, including submitters of critical infrastructure information, authorized users of PCII and accredited Federal, state and local entities with homeland security duties. The PCII Program is required by its authorizing regulation to assist the Officers in overseeing their own accredited PCII programs at the state and local level. See 6 CFR 29.4(d). This questionnaire is designed to gather information from PCII Officers that can be used to assess their programs, their compliance with PCII rules and requirements, and the specific needs of their accredited programs. This will help the DHS PCII Program to ensure that PCII is being properly protected and avoid any improper disclosures, which would severely harm the Program, given PCII's voluntary nature.

Analysis

Agency: Department of Homeland Security, National Protection and Programs Directorate, Office of Infrastructure Protection, Infrastructure Information Collection Division, Protected Critical Infrastructure Information Program.

Title: Protected Critical Infrastructure Information (PCII) Office Self-Assessment Questionnaire.

OMB Number: 1670-NEW.

Frequency: Annually.

Affected Public: PCII Officers.

Number of Respondents: 80 (estimate).

Estimated Time per Respondent: One hour.

Total Burden Hours: 80 annual burden hours.

Total Burden Cost (capital/startup): $0.

Total Recordkeeping Burden: $0 (This assessment will reside on existing PCII information storage systems).

Total Burden Cost (operating/maintaining): $8,316.

Dated: May 13, 2013.
Scott Libby,
Deputy Chief Information Officer, National Protection and Programs Directorate, Department of Homeland Security.

[FR Doc. 2013-11866 Filed 5-17-13; 8:45 am]

BILLING CODE 9110-9P-P